Executive Order 14217 of February 19, 2025

Commencing the Reduction of the Federal Bureaucracy

By the authority vested in me as President by the Constitution and the laws of the United States of America, it is hereby ordered:

Section 1. Purpose. It is the policy of my Administration to dramatically reduce the size of the Federal Government, while increasing its accountability to the American people. This order commences a reduction in the elements of the Federal bureaucracy that the President has determined are unnecessary. Reducing the size of the Federal Government will minimize Government waste and abuse, reduce inflation, and promote American freedom and innovation.

Sec. 2. Reducing the Scope of the Federal Bureaucracy. (a) The non-statutory components and functions of the following governmental entities shall be eliminated to the maximum extent consistent with applicable law, and such entities shall reduce the performance of their statutory functions and associated personnel to the minimum presence and function required by law:

(i) the Presidio Trust;

(ii) the Inter-American Foundation;

(iii) the United States African Development Foundation; and

(iv) the United States Institute of Peace.

(b) Within 14 days of the date of this order, the head of each unnecessary governmental entity listed in subsection (a) of this section shall submit a report to the Director of the Office of Management and Budget (OMB Director) confirming compliance with this order and stating whether the governmental entity, or any components or functions thereof, are statutorily required and to what extent.

(c) In reviewing budget requests submitted by the governmental entities listed in subsection (a) of this section, the OMB Director or the head of any executive department or agency charged with reviewing grant requests by such entities shall, to the extent consistent with applicable law and except insofar as necessary to effectuate an expected termination, reject funding requests for such governmental entities to the extent they are inconsistent with this order.

(d) The Presidential Memorandum of November 13, 1961 (Need for Greater Coordination of Regional and Field Activities of the Government), is hereby revoked. The Director of the Office of Personnel Management (OPM Director) is directed to initiate the process to withdraw the regulations at title 5, part 960, Code of Federal Regulations, thereby eliminating the Federal Executive Boards.

(e) The OPM Director is directed to initiate the process to withdraw the regulations at title 5, part 362, subpart D, Code of Federal Regulations, and to take any other steps necessary to promptly terminate the Presidential Management Fellows Program. On the effective date of the final regulations promulgated by the OPM Director, Executive Order 13318 of November 21, 2003, is revoked and Executive Order 13562 of December 27, 2010, is amended by:

(i) striking from section 2 the words “along with the Presidential Management Fellows Program, as modified herein,”;

(ii) striking section 5;

(iii) striking from section 6(b) the words “or PMF Programs” and inserting in their place “program”;

(iv) striking from section 7(b)(iii) the words “the competitive service of Interns, Recent Graduates, or PMFs (or a Government-wide combined conversion cap applicable to all three categories together)” and inserting in their place “the competitive service of Interns or Recent Graduates (or a Government-wide combined conversion cap applicable to both categories together)”; and

(v) redesignating sections 6, 7, 8, and 9 as sections 5, 6, 7, and 8 respectively.

(f) Within 14 days of the date of this order, the following heads of executive departments and agencies (agencies) shall take the following actions with respect to the following Federal Advisory Committees within their respective agencies:

(i) the Administrator of the United States Agency for International Development shall terminate the Advisory Committee on Voluntary Foreign Aid;

(ii) the Director of the Bureau of Consumer Financial Protection shall terminate the Academic Research Council and the Credit Union Advisory Council;

(iii) the Board of Directors of the Federal Deposit Insurance Corporation shall terminate the Community Bank Advisory Council;

(iv) the Secretary of Health and Human Services shall terminate the Secretary's Advisory Committee on Long COVID; and

(v) the Administrator of the Centers for Medicare and Medicaid Services shall terminate the Health Equity Advisory Committee.

(g) Within 30 days of the date of this order, the Assistant to the President for National Security Affairs, the Assistant to the President for Economic Policy, and the Assistant to the President for Domestic Policy shall identify and submit to the President additional unnecessary governmental entities and Federal Advisory Committees that should be terminated on grounds that they are unnecessary.

Sec. 3. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

February 19, 2025.

[FR Doc. 2025-03133

Filed 2-24-25; 8:45 am]

Billing code 3395-F4-P